OFFICE OF THE UNITED STATES TRADE REPRESENTATIVE

Notice of Meeting of the Trade and Environment Policy Advisory Committee (TEPAC)

AGENCY: Office of the United States Trade Representative.

ACTION: Notice that the March 4, 2004, meeting of the Trade and Environment Policy Advisory Committee will be held from 10 a.m. to 12 noon. The meeting will be closed to the public from 10 a.m. to 11:30 a.m. and open to the public from 11:30 a.m. to 12 noon, when trade policy issues will be discussed. Attendance during this part of the meeting is for observation only. Individuals who are not members of the committee will not be invited to comment.

SUMMARY: The meeting will include a review and discussion of current issues which influence U.S. trade policy. Pursuant to section 2155(f)(2) of title 19 of the United States Code, I have determined that this meeting will be concerned with matters the disclosure of which would seriously compromise the development by the United States Government of trade policy, priorities, negotiating objectives or bargaining positions with respect to the operation of any trade agreement and other matters arising in connection with the development, implementation and administration of the trade policy of the United States.

DATES: The meeting is scheduled for March 4, 2004, unless otherwise notified.

ADDRESSES: The meeting will be held in the Truman Room of the White House Conference Center located at 726 Jackson Place, NW., Washington, DC, unless otherwise notified.

FOR FURTHER INFORMATION CONTACT: Christina Sevilla, Office of Intergovernmental Affairs and Public Liaison, (202) 395-6120.

Christopher A. Padilla,
U.S. Trade Representative for Intergovernmental Affairs and Public Liaison.

[FR Doc. 04-3276 Filed 2-12-04; 8:45 am]

BILLING CODE 3170-W3-M